DEPARTMENT OF COMMERCE

National Oceanic and Atmospheric Administration

RIN 0648-XF149

Marine Mammals; File No. 20465

AGENCY: National Marine Fisheries Service (NMFS), National Oceanic and Atmospheric Administration (NOAA), Commerce.

ACTION: Notice; receipt of application.

SUMMARY: Notice is hereby given that the NMFS Alaska Fisheries Science Center (AFSC) Marine Mammal Laboratory, 7600 Sand Point Way NE., Seattle, WA 98115-6349 (Responsible Party: Dr. John Bengtson), has applied in due form for a permit to conduct research on 21 species of marine mammals.

DATES: Written, telefaxed, or email comments must be received on or before March 23, 2017.

ADDRESSES: The application and related documents are available for review by selecting “Records Open for Public Comment” from the “Features” box on the Applications and Permits for Protected Species (APPS) home page, https://apps.nmfs.noaa.gov, and then selecting File No. 20465 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Shasta McClenahan, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

AFSC's Marine Mammal Laboratory requests a 5-year permit to monitor and evaluate cetacean trends, abundance, distribution, and health in the North Pacific Ocean, Bering, Beaufort, and Chukchi Seas, and in the Gulf of Maine and mid-Atlantic waters. Up to 21 species of cetaceans may be targeted for study including the following endangered or threatened species/stocks: Cook Inlet beluga (Delphinapterus leucas), blue (Balaenoptera musculus), fin (B. physalus), sei (B. borealis), bowhead (Balaena mysticetus), humpback (Megaptera novaeangliae), North Pacific right (Eubalaena japonica), Southern Resident killer (Orcinus orca), and sperm (Physeter macrocephalus) whales. Research would involve aerial surveys, vessel surveys, and captures. Researchers would conduct manned and unmanned aerial surveys for counts, observations, photo-identification, photogrammetry, and video of cetaceans. Vessel surveys would be conducted for counts, biological sampling, observation, photo-identification, photogrammetry, video, tagging, and/or acoustic playbacks of cetaceans. Non-listed beluga whale stocks would be captured for health assessments involving a suite of biological sampling, acoustic playbacks, and/or tagging prior to release. Up to four mortalities of each beluga stock are requested over the life of the permit for capture work. Seven pinniped species including endangered Steller sea lions (Eumetopias jubatus) may be harassed incidental to research. Please see the take tables for numbers of animals requested by species.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: February 15, 2017.
Julia Harrison,
Chief, Permits and Conservation Division, Office of Protected Resources, National Marine Fisheries Service.

[FR Doc. 2017-03344 Filed 2-17-17; 8:45 am]

BILLING CODE 3510-22-P